DEPARTMENT OF DEFENSE

Office of the Secretary

[Transmittal No. 23-32]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-32, Policy Justification, and Sensitivity of Technology.

Dated: September 11, 2024.
Aaron T. Siegel,
Alternate OSD Federal Register Liaison Officer, Department of Defense.

BILLING CODE 6001-FR-P

BILLING CODE 6001-FR-C

Transmittal No. 23-32

Notice of Proposed Issuance of Letter of Offer Pursuant to Section 36(b)(1) of the Arms Export Control Act, as amended

(i) Prospective Purchaser: Government of Norway

(ii) Total Estimated Value:

Major Defense Equipment * | $ .550 billion
Other | $ .450 billion
TOTAL | $1.000 billion

(iii) Description and Quantity or Quantities of Articles or Services under Consideration for Purchase:

Major Defense Equipment (MDE):

Six (6) MH-60R Multi-Mission Helicopters

Fifteen (15) T-700-GE-401C Engines (12 installed, 3 spares)

Nine (9) Link 16 Multifunctional Information Distribution Systems Joint Tactical Radio Systems (MIDS JTRS) (6 installed, 3 spares)

Eighteen (18) Embedded Global Positioning System/Precise Positioning Service (GPS/PPS)/Inertial Navigation Systems (EGI) with Selective Availability/Anti-Spoofing Module (SAASM) (12 installed, 6 spares)

Six (6) Airborne Low Frequency Sonars (ALFS) (aircraft provisions only)

Non-MDE:

Also included are M514 impulse cartridge/cartridge actuated devices; MJ20 cartridge actuated thruster/cartridge actuated devices; WB53 fire extinguisher cartridge/cartridge actuated devices; CCU-136A/A impulse cartridge; GAU-21 crew-served guns (including pintle and laser pointer); AN/ARC-210 RT-2036 radios with Communications Security (COMSEC); AN/AAR-47 missile warning systems; AN/APX-123 Identification Friend or Foe (IFF) transponders; AN/ALE-47 dispensers; Electronic Countermeasures; Advanced Data Transfer Systems (ADTS); AN/AAS-44C(V) Multi-Spectral Targeting Systems; Identification Friend or Foe Mode 4/5 Cryptographic Applique, KIV-78; Joint Mission Planning Systems (JMPS); AN/ARQ-59 Hawklink radio terminals; Training Simulators/Operational Machine Interface Assistants (ATS/OMIA); Aviation Maintenance Weapons Loading Trainer (AMWLT); Tactical Operational Flight Trainer (TOFT); AN/ALQ-210 Electronic Support Measures (ESM) systems; APS-153(V) multi-mode radars; spare engine containers; spare and repair parts; support and test equipment; communications equipment; ferry support; publications and technical documentation; personnel training and training equipment; U.S. Government and contractor engineering, technical, and logistics support services; obsolescence engineering, integration, and test activities required to ensure readiness for the production of the Norwegian MH-60R helicopters; and other related elements of logistics and program support.

(iv) Military Department: Navy (NO-P-SAR)

(v) Prior Related Cases, if any: NO-P-GFF

(vi) Sales Commission, Fee, etc., Paid, Offered, or Agreed to be Paid: None

(vii) Sensitivity of Technology Contained in the Defense Article or Defense Services Proposed to be Sold: See Attached Annex

(viii) Date Report Delivered to Congress: April 26, 2023

* As defined in Section 47(6) of the Arms Export Control Act.

POLICY JUSTIFICATION

Norway—Defense Articles and Services Related to the MH-60R Multi-Mission Helicopters

The Government of Norway has requested to buy six (6) MH-60R Multi-Mission Helicopters; fifteen (15) T-700-GE-401C engines (12 installed, 3 spares); nine (9) Link 16 Multifunctional Information Distribution Systems Joint Tactical Radio Systems (MIDS JTRS) (6 installed, 3 spares); eighteen (18) Embedded Global Positioning System/Precise Positioning Service (GPS/PPS)/Inertial Navigation Systems (EGI) with Selective Availability/Anti-Spoofing Module (SAASM) (12 installed, 6 spares); and six (6) Airborne Low Frequency Sonars (ALFS) (aircraft provisions only). Also included are M514 impulse cartridge/cartridge actuated devices; MJ20 cartridge actuated thruster/cartridge actuated devices; WB53 fire extinguisher cartridge/cartridge actuated devices; CCU-136A/A impulse cartridges; GAU-21 crew served guns (including pintle and laser pointer); AN/ARC-210 RT-2036 radios with Communications Security (COMSEC); AN/AAR-47 missile warning systems; AN/APX-123 Identification Friend or Foe (IFF) transponders; AN/ALE-47 dispensers; Electronic Countermeasures; Advanced Data Transfer Systems (ADTS); AN/AAS-44C(V) Multi-Spectral Targeting Systems; Identification Friend or Foe Mode 4/5 Cryptographic Applique, KIV-78; Joint Mission Planning Systems (JMPS); AN/ARQ-59 Hawklink radio terminals; Training Simulators/Operational Machine Interface Assistants (ATS/OMIA); Aviation Maintenance Weapons Loading Trainer (AMWLT); Tactical Operational Flight Trainer (TOFT); AN/ALQ-210 Electronic Support Measures (ESM) systems; APS-153(V) multi-mode radars; spare engine containers; spare and repair parts; support and test equipment; communications equipment; ferry support; publications and technical documentation; personnel training and training equipment; U.S. Government and contractor engineering, technical, and logistics support services; obsolescence engineering, integration, and test activities required to ensure readiness for the production of the Norwegian MH-60R helicopters; and other related elements of logistics and program support. The total estimated program cost is $1 billion.

This proposed sale will support the foreign policy goals and national security objectives of the United States by improving the security of a NATO Ally that is an important force for political stability and economic progress in Europe.

The proposed sale will improve Norway's capability to perform search and rescue, anti-surface, and anti-submarine warfare missions along with the ability to perform secondary missions, including vertical replenishment and communications relay. Norway will use the enhanced capability as a deterrent to regional threats and to strengthen its homeland defense. Norway will have no difficulty absorbing these helicopters and support into its armed forces.

The proposed sale of this equipment and support will not alter the basic military balance in the region.

The principal contractor will be Lockheed Martin Rotary and Mission Systems, Owego, New York. The purchaser has requested offsets. Any offset agreement will be defined in negotiations between the purchaser and the contractor.

Implementation of this proposed sale will require multiple trips by U.S. Government representatives and the assignment of contractor representatives to Norway on an intermittent basis over the life of the case to support delivery and integration of items and to provide supply support management, inventory control, and equipment familiarization. In addition, there will be up to four (4) contractor representatives in Norway full-time for the duration of the case.

There will be no adverse impact on U.S. defense readiness as a result of this proposed sale.

Transmittal No. 23-32

Notice of Proposed Issuance of Letter of Offer Pursuant to Section 36(b)(1) of the Arms Export Control Act

Annex

Item No. vii

(vii) Sensitivity of Technology:

1. The MH-60R Multi-Mission Helicopter focuses primarily on anti-submarine warfare (ASW) and anti-surface warfare (ASuW) missions. The MH-60R also performs search and rescue, naval gunfire support, surveillance, communications relay, logistics support, personnel transfer, and vertical replenishment missions. The MH-60R carries several sensors and data links to enhance its ability to work in a network centric battle group and as an extension of its home ship or main operating base. The mission equipment subsystem consists of the following sensors and subsystems: an acoustics system capable of, but not configured for, future dipping sonar and sonobuoy operations, Multi-Mode Radar (MMR) with integral Identification Friend or Foe (IFF) interrogator, radios with COMSEC, Electronic Support Measures (ESM), Integrated Self-Defense (ISD), and Multi-Spectral Targeting System (MTS). The aircraft processes sensor data onboard, and transmits data via Common Data Link (CDL) (also referred to as Hawklink). The aircraft is night vision compatible. It can carry AGM-114A/B/K/N Hellfire missiles, as well as MK 46/54 torpedoes to engage surface and sub-surface targets. The MH-60R Multi-Mission Helicopter is capable of carrying the Airborne Low Frequency Sonars (ALFS), GAU-61 Digital Rocket Launchers, Advanced Precision Kill Weapons System (APKWS), GAU-21 crew-served guns, and M240 crew-served guns.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Norway can provide substantially the same degree of protection for the sensitive technology being released as the U.S. Government. This sale is necessary in furtherance of the U.S. foreign policy and national security objectives outlined in the Policy Justification.

5. All defense articles and services listed in this transmittal have been authorized for release and export to the Government of Norway.

[FR Doc. 2024-21057 Filed 9-16-24; 8:45 am]

BILLING CODE 6001-FR-P